DEPARTMENT OF AGRICULTURE

Foreign Agricultural Service

Notice of Request for Extension and Revision of a Currently Approved Information Collection

AGENCY: Foreign Agricultural Service, USDA.

ACTION: Notice and request for comments.

SUMMARY: In accordance with the Paperwork Reduction Act of 1995, this notice announces the Foreign Agricultural Service's (FAS) intention to request an extension and revision for a currently approved information collection process based on re-estimates in support of various Export Services.

DATES: Comments on this notice must be received by June 7, 2002 to be assured of consideration.

Requests for Comments: Send comments regarding (a) whether the proposed collection of information is necessary for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including through the use of automated electronic, mechanical, or other technological collection techniques or other forms of information technology. Comments should be sent to, and copies of Export Service registration forms, surveys and qualification criteria may be obtained from: Dan Berman, Director, Ag Export Services Division, Commodity and Marketing Programs, Foreign Agricultural Service, U.S. Department of Agriculture, 1400 Independence Avenue, SW, Stop 1052, Washington, DC 20250-1052. All written comments received will be available for public inspection at the above address during business hours from 8:00 a.m. to 5:00 p.m. Phone (202) 720-6343, Fax: (202) 690-0193.

SUPPLEMENTARY INFORMATION: Title: Export Services.

OMB Number 0551-0031 (List of Commodities by Firm Available for Exporting—U.S. Supplier List) and Number 0551-0024 (Buyer Alert Program). These will be combined into OMB number 0551-0031 if this request is approved.

Expiration Date of Approval: May 31, 2002.

Type of Request: Extension and revision of a currently approved information collection, with change to combine 0551-0031 and 0551-0024.

Abstract: The major objective of Exporter Services is to expand U.S. agricultural exports by helping U.S. companies to sell their products outside the United States. These services are offered to both new and experienced exporters. Companies wanting to export can participate in the following programs: “The Buyer Alert” service is a proven way for U.S. companies to inform foreign buyers about their products; “Trade Leads” provide U.S. exporters with sales opportunities generated by overseas offices of FAS and contains information about the buyer, products they are seeking, and general terms of the purchase; the “U.S. Suppliers' List” service is an on-line searchable database of over 5,000 U.S. exporters and their products, used by FAS to help facilitate connecting potential buyers with U.S. suppliers; and the “Foreign Buyer List” service is available to U.S. companies to learn about 20,000 buyers in more than 25 countries who specialize in the import and distribution of U.S. products in their country. Each year a certain number of Trade Shows are selected in the best prospective markets to host a U.S.A. pavilion where U.S. companies can promote their products to buyers. The latest technology makes it possible to integrate an on-line virtual trade show with these export services. The Exporter Assistance section of the FAS web site http://www.fas.usda.gov/, a one-stop-shop for either the experienced or novice exporter offers information about exporting and easy access to register for these services. Customer service surveys and evaluations are anticipated in order to improve the effectiveness of these services. The information is necessary to manage, plan, and evaluate the effectiveness of these services, which are intended to help U.S. companies to market and sell their products in overseas markets. Authority for these activities falls under 7 U.S.C. 1761 and is voluntary for U.S. companies to participate. A small fee is charged for some of the services. Estimate of Burden: The burden to U.S. exporters is estimated to average 0.25 hours per response.

Respondents: U.S. agricultural exporters of food, farm, and forest products.

Estimated Number of Respondents: 7500 per annum.

Estimated Number of Responses per Respondent: 4 per annum.

Estimated Total Annual Burden of Respondents: 7,500 hours per annum.

Copies of this information collection can be obtained from Kimberly A. Chisley, the Agency Information Collection Coordinator, at (202) 720-2568.

All responses to this notice will be summarized and included in the request for OMB approval.

All comments will also become a matter of public record.

Signed at Washington, D.C. on April 2, 2002.
A. Ellen Terpstra,
Administrator, Foreign Agricultural Service.

[FR Doc. 02-8428 Filed 4-5-02; 8:45 am]

BILLING CODE 3410-10-P